DEPARTMENT OF COMMERCE

Foreign-Trade Zones Board

[B-57-2024]

Foreign-Trade Zone (FTZ) 144, Notification of Proposed Production Activity; Corteva Agriscience, LLC; (Crop Protection Products); Valdosta, Georgia

Corteva Agriscience, LLC submitted a notification of proposed production activity to the FTZ Board (the Board) for its facilities in Valdosta, Georgia within Subzone 144A. The notification conforming to the requirements of the Board's regulations (15 CFR 400.22) was received on November 14, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include: formulated insecticides (GF-3028™ (Methoxyfenozidem) (Spinetoram); Salibro® Reklemel® (Fluazaindolizine); Vydate® (Oxamyl)); formulated insecticide seed treatments (Dermacor® (Chlorantraniliprole); Lumiposa® (Chlorantraniliprole); Lumivia® (Chlorantraniliprole)); and formulated fungicides (ACANTO® PLUS SC (Picoxystrobin); Aproach Prima® (Picoxystrobin) (Cyproconazole (ISO)); Aproach® (Chlorantraniliprole); FONTELIS® (DPX-LEM17 20SC) (Penthiopyrad); Indar 2F® (Fenbuconazole (ISO)); Lumisena® (Oxathiapiprolin (ISO)); Plenaris® Sunflower (Oxathiapiprolin (ISO)); Tanos® (Famoxaone) (Cymoxanil); Verpixo® (Adavelt® Florylpicoxamid); ZORVEC ENCANTIA® 330SE (Famoxadone) (Oxathiapiprolin)) (duty rates are 5% or 6.5%).

The proposed foreign-status materials/components include: Chlorantraniliprole Technical Insecticide; Cyproconazole Technical Insecticide; Famoxadone Technical Fungicide; Fenbuconazole (RH-7592) Technical Fungicide; Florylpicoxamid Technical Fungicide; Marasprese N-22 Binder/Dispersing Agent; Methomyl Technical Insecticide; Methoxyfenozide Technical Insecticide; Oxamyl Technical Insecticide; Penthiopyrad Technical Fungicide; Picoxystrobin Technical Fungicide; Prothioconazole Technical Fungicide; Pyraclostrobin Technical Fungicide; Fluazaindolizine Technical Fungicide; 2,4,6-tris(1-phenylethyl)phenoxy Surfactant; and, Oxathiapiprolin Technical Fungicide (duty rates range from duty free to 6.5%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is December 31, 2024.

A copy of the notification will be available for public inspection in the “Online FTZ Information System” section of the Board's website.

For further information, contact Diane Finver at Diane.Finver@trade.gov.

Dated: November 18, 2024.
Elizabeth Whiteman,
Executive Secretary.

[FR Doc. 2024-27322 Filed 11-20-24; 8:45 am]

BILLING CODE 3510-DS-P